DEPARTMENT OF TRANSPORTATION

Federal Aviation Administration

14 CFR Part 39

[Docket No. FAA-2005-23173; Directorate Identifier 2005-NM-190-AD; Amendment 39-14644; AD 2006-12-18]

RIN 2120-AA64

Airworthiness Directives; Short Brothers Model SD3 Airplanes

AGENCY: Federal Aviation Administration (FAA), Department of Transportation (DOT).

ACTION: Final rule.

SUMMARY: The FAA is adopting a new airworthiness directive (AD) for all Short Brothers Model SD3 airplanes. This AD requires installing additional fuel tank bonding jumpers, performing an in-place resistance check of the float switches, inspecting certain internal components of the fuel tanks, and performing related corrective actions if necessary. This AD also requires revisions to the Airworthiness Limitations section of the Instructions for Continued Airworthiness, and to the airplane flight manual procedures for operation during icing conditions and fuel system failures. This AD results from fuel system reviews conducted by the manufacturer. We are issuing this AD to prevent ignition sources inside the fuel tanks, which could lead to fire or explosion.

DATES: This AD becomes effective July 21, 2006.

The Director of the Federal Register approved the incorporation by reference of certain publications listed in the AD as of July 21, 2006.

ADDRESSES: You may examine the AD docket on the Internet at http://dms.dot.gov or in person at the Docket Management Facility, U.S. Department of Transportation, 400 Seventh Street SW., Nassif Building, Room PL-401, Washington, DC.

Contact Short Brothers, Airworthiness & Engineering Quality, P.O. Box 241, Airport Road, Belfast BT3 9DZ, Northern Ireland, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to all Short Brothers Model SD3 airplanes. That supplemental NPRM was published in the Federal Register on April 12, 2006 (71 FR 18686). That supplemental NPRM proposed to require installing additional fuel tank bonding jumpers, performing an in-place resistance check of the float switches, inspecting certain internal components of the fuel tanks, and performing related corrective actions if necessary. That supplemental NPRM also proposed to require revisions to the Airworthiness Limitations section of the Instructions for Continued Airworthiness, and to the airplane flight manual (AFM) procedures for operation during icing conditions and fuel system failures.

Comments

We provided the public the opportunity to participate in the development of this AD. We received no comments on the supplemental NPRM or on the determination of the cost to the public.

Clarification of Service Information

We have revised the reference to the advance amendment bulletin specified in paragraph (f) of this AD. Rather than one bulletin, there are four bulletins, each applicable to a certain model airplane. The information in each bulletin revises the applicable AFM for that model airplane.

Conclusion

We have carefully reviewed the available data and determined that air safety and the public interest require adopting the AD with the change previously discussed. We have determined that this change will neither increase the economic burden on any operator nor increase the scope of the AD.

Costs of Compliance

This AD affects about 54 airplanes of U.S. registry. The average labor rate is estimated to be $80 per work hour.

The required revisions to the AFM and airplane maintenance manual (AMM) will take about 1 work hour per airplane. Based on these figures, the estimated cost of the required revisions for U.S. operators is $4,320, or $80 per airplane.

The required resistance check, inspections, and jumper installations, will take about 40 work hours per airplane. Required parts will cost about $10 per airplane. Based on these figures, the estimated cost of these required actions for U.S. operators is $173,340, or $3,210 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-18 Short Brothers PLC: Amendment 39-14644. Docket No. FAA-2005-23173; Directorate Identifier 2005-NM-190-AD.

Effective Date

(a) This AD becomes effective July 21, 2006.

Affected ADs

(b) None.

Applicability

(c) This AD applies to all Shorts Model SD3-60 SHERPA, SD3-SHERPA, SD3-30, and SD3-60 airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (i) of this AD. The request should include a description of changes to the required inspections that will ensure the continued damage tolerance of the affected structure. The FAA has provided guidance for this determination in Advisory Circular (AC) 25-1529.

Unsafe Condition

(d) This AD results from fuel system reviews conducted by the manufacturer. We are issuing this AD to prevent ignition sources inside the fuel tanks, which could lead to fire or explosion.

Compliance

(e) You are responsible for having the actions required by this AD performed within the compliance times specified, unless the actions have already been done.

Revision of Airplane Flight Manual (AFM)

(f) Within 30 days after the effective date of this AD, revise the Limitations and Normal Procedures sections of the AFMs as specified in Table 1 of this AD to include the information in the applicable Shorts advance amendment bulletins as specified in Table 1 of this AD. The advance amendment bulletins address operation during icing conditions and fuel system failures. Thereafter, operate the airplane according to the limitations and procedures in the applicable advance amendment bulletin.

Note 2: The requirements of paragraph (f) of this AD may be done by inserting a copy of the applicable advance amendment bulletin into the AFM. When the applicable advance amendment bulletin has been included in general revisions of the AFM, the general revisions may be inserted into the AFM and the advance amendment bulletin may be removed, provided the relevant information in the general revision is identical to that in the advance amendment bulletin.

Table 1.—AFM Revisions
Airplane model | Shorts advance amendment bulletin | To AFM
SD3-30 | 1/2004, dated July 13, 2004 | SBH.3.2, SBH.3.3, SBH.3.6, SBH.3.7, SBH.3.8, and SB.3.9.
SD3-60 | 1/2004, dated July 13, 2004 | SB.4.3, SB.4.6, and SB.4.8.
SD3-60 SHERPA | 1/2004, dated July 13, 2004 | SB.5.2.
SD3-SHERPA | 1/2004, dated July 13, 2004 | SB.6.2.

Revision of Airworthiness Limitation (AWL) Section

(g) Within 180 days after the effective date of this AD: Revise the AWL section of the Instructions for Continued Airworthiness by incorporating airplane maintenance manual (AMM) sections 5-20-01 and 5-20-02 as introduced by the Shorts temporary revisions (TR) specified in Table 2 of this AD into the AWL section of the AMMs for the airplane models specified in Table 2. Thereafter, except as provided by paragraph (i) of this AD, no alternative structural inspection intervals may be approved for the longitudinal skin joints in the fuselage pressure shell.

Note 3: The requirements of paragraph (g) of this AD may be done by inserting a copy of the applicable TR into the applicable AMM. When the TR has been included in general revisions of the AMM, the general revisions may be inserted in the AMM and the TR may be removed, provided the relevant information in the general revision is identical to that in the TR.

Table 2.—AMM Temporary Revisions
Airplane model | Temporary revision | Dated | To AMM
SD3-30 | TR330-AMM-13 | June 21, 2004 | SD3-30 AMM.
SD3-30 | TR330-AMM-14 | June 21, 2004 | SD3-30 AMM.
SD3-60 | TR360-AMM-33 | July 27, 2004 | SD3-60 AMM.
SD3-60 | TR360-AMM-34 | July 27, 2004 | SD3-60 AMM.
SD3-60 SHERPA | TRSD360S-AMM-14 | July 29, 2004 | SD3-60 SHERPA AMM.
SD3-60 SHERPA | TRSD360S-AMM-15 | July 29, 2004 | SD3-60 SHERPA AMM.
SD3-SHERPA | TRSD3S-AMM-15 | July 28, 2004 | SD3 SHERPA AMM.
SD3-SHERPA | TRSD3S-AMM-16 | July 28, 2004 | SD3 SHERPA AMM.

Resistance Check, Inspection, and Jumper Installation

(h) Within 180 days after the effective date of this AD: Perform the insulation resistance check, general visual inspections, and bonding jumper wire installations; in accordance with Shorts Service Bulletin SD330-28-37, SD360-28-23, SD360 SHERPA-28-3, or SD3 SHERPA-28-2; all dated June 2004; as applicable. If any defect or damage is discovered during any inspection or check required by this AD, before further flight, repair the defect or damage using a method approved by either the Manager, International Branch, ANM-116, Transport Airplane Directorate, FAA; or the Civil Aviation Authority (CAA) (or its delegated agent).

Note 4: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) British airworthiness directive G-2004-0021 R1, dated September 15, 2004, also addresses the subject of this AD.

Material Incorporated by Reference

(k) You must use the applicable service information specified in Table 3, Table 4, and Table 5 of this AD to perform the actions that are required by this AD, unless the AD specifies otherwise. (The document number of the advance amendment bulletins is listed only on page 1 of those documents.) The Director of the Federal Register approved the incorporation by reference of these documents in accordance with 5 U.S.C. 552(a) and 1 CFR part 51. Contact Short Brothers, Airworthiness & Engineering Quality, P.O. Box 241, Airport Road, Belfast BT3 9DZ, Northern Ireland, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 3.—Shorts Temporary Revisions Incorporated by Reference
Temporary revision | Dated | To airplane maintenance manual
TR330-AMM-13 | June 21, 2004 | SD3-30.
TR330-AMM-14 | June 21, 2004 | SD3-30.
TR360-AMM-33 | July 27, 2004 | SD3-60.
TR360-AMM-34 | July 27, 2004 | SD3-60.
TRSD360S-AMM-14 | July 29, 2004 | SD3-60 SHERPA.
TRSD360S-AMM-15 | July 29, 2004 | SD3-60 SHERPA.
TRSD3S-AMM-15 | July 28, 2004 | SD3 SHERPA.
TRSD3S-AMM-16 | July 28, 2004 | SD3 SHERPA.

Table 4.—Shorts Advance Amendment Bulletins Incorporated by Reference
Advance amendment bulletin | To airplane flight manual
1/2004, dated July 13, 2004 | SBH.3.2, SBH.3.3, SBH.3.6, SBH.3.7, SBH.3.8, and SB.3.9.
1/2004, dated July 13, 2004 | SB.4.3, SB.4.6, and SB.4.8.
1/2004, dated July 13, 2004 | SB.5.2.
1/2004, dated July 13, 2004 | SB.6.2.

Table 5.—Shorts Service Bulletins Incorporated by Reference
Service bulletin | Dated
SD330-28-37 | June 2004.
SD360-28-23 | June 2004.
SD360 SHERPA-28-3 | June 2004.
SD3 SHERPA-28-2 | June 2004.

Issued in Renton, Washington, on June 5, 2006.
Kalene C. Yanamura,
Acting Manager, Transport Airplane Directorate, Aircraft Certification Service.

[FR Doc. 06-5288 Filed 6-15-06; 8:45 am]

BILLING CODE 4910-13-P